DEPARTMENT OF THE INTERIOR

National Park Service

National Register of Historic Places; Notification of Pending Nominations and Related Actions

Nominations for the following properties being considered for listing or related actions in the National Register were received by the National Park Service before May 16, 2009.

Pursuant to section 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th Floor, Washington DC 20005; or by fax, 202-371-6447. Written or faxed comments should be submitted by June 17, 2009.

J. Paul Loether,
Chief, National Register of Historic Places/National Historic Landmarks Program.

ARKANSAS

Washington County

Butterfield Overland Mail Route Fayetteville Segments Historic District, W. of AR 265 in Lake Fayetteville Park, Fayetteville, 09000456

GEORGIA

Fulton County

Collier Heights Historic District, Bounded approximately by Hamilton E. Holmes Dr. on the E., Donald Lee Hollowell Pkwy. on the N., U.S. 285 on the W, U.S. 20, Atlanta, 09000457

Polk County

Rockmart Downtown Historic District, Roughly bounded by Water, Beauregard, Narble, and Elm Sts., Rockmart, 09000458

ILLINOIS

Cook County

East Village Historic District, (Ethnic (European) Historic Settlement in the city of Chicago (1860-1930) Bounded by Division St. and Chicago, Hermitage and Damen Aves., Chicago, 09000459

KANSAS

Sedgwick County

Broadview Hotel, 400 W. Douglas Ave., Wichita, 09000460

McLean, Elizabeth, House, (Residential Resources of Wichita, Sedgwick County, Kansas 1870-1957) 2359 N. McLean Blvd., Wichita, 09000461

PENNSYLVANIA

Berks County

Douglass, George, House, 19 Old Philadelphia Pike, Amity Township, 09000462

Lackawanna County

Madison, James, School, (Educational Resources of Pennsylvania MPS) 528 Quincy Ave., Scranton, 09000463

SOUTH CAROLINA

Richland County

South Carolina Memorial Garden, 1919 Lincoln St., Columbia, 09000464

[FR Doc. E9-12679 Filed 6-1-09; 8:45 am]

BILLING CODE P